DEPARTMENT OF HOUSING AND URBAN DEVELOPMENT

[Docket No. FR-4837-D-12]

Delegations of Procurement Authority and Designation of Senior Procurement Executive

AGENCY: Office of the Secretary, HUD.

ACTION: Notice of delegation of authority.

SUMMARY: In this notice, the Secretary of HUD delegates all procurement authority of the Secretary to the Assistant Secretary for Administration/Chief Information Officer and the Chief Procurement Officer, and authorizes each to exercise all duties and powers of the Secretary regarding departmental procurement activities. The Chief Procurement Officer continues to serve as the Department's Senior Procurement Executive.

EFFECTIVE DATE: August 11, 2003.

FOR FURTHER INFORMATION CONTACT: Edward L. Girovasi, Jr., Director, Policy and Field Operations Division, Office of the Chief Procurement Officer, Room 5262, 451 7th Street SW., Washington, DC 20410-3000, (202) 708-0294 (this is not a toll-free number). Hearing- or speech-impaired individuals may access this number through TTY by calling the toll-free Federal Information Relay Service at 1-800-877-8339.

SUPPLEMENTARY INFORMATION: The Secretary is issuing new delegations of procurement authority to reflect the Department's current organizational structure. Since the last publication of the Department's delegations of procurement authority, the Office of the Chief Procurement Officer has been organizationally realigned under the authority of the Assistant Secretary for Administration/Chief Information Officer.

This notice encompasses all of the delegations of procurement authority made by the Secretary within the Department. Therefore, through this notice, the Secretary supersedes, delegates, and designates as follows:

Section A. Authority Superseded

This notice supersedes an unpublished delegation dated May 24, 2001, which delegated procurement authority to the Assistant Secretary for Administration/Chief Information Officer. The May 24, 2001, delegation authorized the Assistant Secretary for Administration/Chief Information Officer to exercise all duties and powers of the Secretary regarding departmental procurement activities, and delegated to the Assistant Secretary for Administration/Chief Information Officer the responsibility for the administrative oversight of all departmental procurement activities.

This notice supersedes the Notice of Designation of Senior Procurement Executive and Revocation and Delegation of Procurement Authority published in the Federal Register on October 13, 1998 (63 FR 54722), which designated the Chief Procurement Officer as the Department's Senior Procurement Executive, and which transferred all procurement authority for the Department to the Chief Procurement Officer.

Section B. Designation and Delegation of Authority

The Assistant Secretary for Administration/Chief Information Officer and the Chief Procurement Officer are delegated all procurement authority of the Secretary and are authorized to exercise all duties and powers of the Secretary regarding departmental procurement activities. Included in the authority delegated in this notice is the authority to enter into, administer, and/or terminate all procurement contracts and interagency agreements entered into under the authority of the Economy Act within the Department and make related determinations and findings. Additionally, included in the authority delegated to the Chief Procurement Officer in this notice is the authority to order debarment, suspension, and/or limited denial of participation sanctions, pursuant to HUD regulations at 24 CFR part 24.

The Assistant Secretary for Administration/Chief Information Officer is delegated the responsibility for the administrative oversight of all departmental procurement activities.

The Chief Procurement Officer is designated the Department's Senior Procurement Executive. Included in the Senior Procurement Executive's functions are certain duties, responsibilities, and powers, such as the responsibility for procurement program development, which includes:

a. Implementation of procurement initiatives, best practices, and reforms;

b. In coordination with the Office of Federal Procurement Policy, determination of specific areas where governmentwide performance standards should be established and applied, and development of governmentwide procurement policies, regulations, and standards;

c. Establishment and maintenance of an evaluation program for all procurement activities within the Department;

d. Development of programs to enhance the professionalism of the Department's procurement workforce, including the establishment of educational, training, and experience requirements for procurement personnel; and,

e. Development of all departmental procurement policy, regulations and procedures.

Section C. Authority To Issue Rules and Regulations

The Chief Procurement Officer is authorized to issue rules and regulations as may be necessary to carry out the procurement authority delegated under Section B.

Section D. Authority To Redelegate

The Chief Procurement Officer is authorized to redelegate to qualified employees of the Department any of the authority delegated under Section B.

Authority: 41 U.S.C. 414(2) and (3); Section 7(d), Department of Housing and Urban Development Act (42 U.S.C. 3535(d)).

Dated: August 11, 2003.
Mel Martinez,
Secretary.

[FR Doc. 03-21245 Filed 8-19-03; 8:45 am]

BILLING CODE 4210-32-P